DEPARTMENT OF TRANSPORTATION

Federal Aviation Administration

14 CFR Part 25

[Docket No. NM405, Special Conditions No. 25-394-SC]

Special Conditions: Bombardier, Inc., Model DHC-8-100, -200, -300, and -400 Series Airplanes; Passenger Seats With Non-Traditional, Large, Non-Metallic Panels

AGENCY: Federal Aviation Administration (FAA), DOT.

ACTION: Final special conditions; request for comments; correction.

SUMMARY: This document makes a correction to a Final special conditions; request for comment document, published in the Federal Register on June 5, 2009 (74 FR 26946), which issued special conditions for the Bombardier, Inc., Model DHC-8-100, -200, -300, and -400 series airplanes, for passenger seats with non-traditional, large, non-metallic panels. The Final special conditions; request for comment document, included an incorrect Special Conditions number.

FOR FURTHER INFORMATION CONTACT: Michael Menkin, FAA, Standardization Branch, ANM-113, Transport Airplane Directorate, Aircraft Certification Service, 1601 Lind Avenue, SW., Renton, Washington 98057-3356; telephone (425) 227-22793 facsimile (425) 227-1230; or e-mail: Michael.Menkin@faa.gov.

SUPPLEMENTARY INFORMATION: The document designated as “Docket No. NM405, Special Conditions No. 25-283-SC” was published in the Federal Register on June 5, 2009 (74 FR 26946). The document issued special conditions pertaining to passenger seats with non-traditional, large, non-metallic panels for the Bombardier, Inc., Model DHC-8-100, -200, -300, and -400 series airplanes.

As published, the document contained an incorrect Special Conditions number; one that was used for a different set of special conditions. To correct that problem, the special conditions number pertaining to these special conditions is being changed.

Since no part of the regulatory information has been changed, the special conditions are not being republished.

Correction

In Final special conditions; request for comment document FR Doc. E9-13187, published on June 5, 2009 (74 FR 26946), make the following correction:

1. On page 26946, in the first column, fifth line, change No. 25-283-SC to No. 25-394-SC.

Issued in Renton, Washington, on December 28, 2009.
Ali Bahrami,
Manager, Transport Airplane Directorate, Aircraft Certification Service.

[FR Doc. 2010-290 Filed 1-11-10; 8:45 am]

BILLING CODE 4910-13-P